SECURITIES AND EXCHANGE COMMISSION

[File No. 500-1]

In the Matter of Aegis Consumer Funding Group, Inc., APS Holding Corp., Childrobics, Inc., Churchill Technology, Inc., Complete Management, Inc., Dakota Mining Corp., Digital Communications Technology Corp., Global Intellicom, Inc., Horn Silver Mines, Inc., TCC Industries, Inc., and Tenney Engineering, Inc.; Order of Suspension of Trading

April 2, 2009.

It appears to the Securities and Exchange Commission that there is a lack of current and accurate information concerning the securities of Aegis Consumer Funding Group, Inc. because it has not filed any periodic reports since the period ended March 31, 1998.

It appears to the Securities and Exchange Commission that there is a lack of current and accurate information concerning the securities of APS Holding Corp. because it has not filed any periodic reports since the period ended July 25, 1998.

It appears to the Securities and Exchange Commission that there is a lack of current and accurate information concerning the securities of Childrobics, Inc. because it has not filed any periodic reports since the period ended March 31, 1997.

It appears to the Securities and Exchange Commission that there is a lack of current and accurate information concerning the securities of Churchill Technology, Inc. because it has not filed any periodic reports since the period ended June 30, 1996.

It appears to the Securities and Exchange Commission that there is a lack of current and accurate information concerning the securities of Complete Management, Inc. because it has not filed any periodic reports since the period ended September 30, 1998.

It appears to the Securities and Exchange Commission that there is a lack of current and accurate information concerning the securities of Dakota Mining Corp. because it has not filed any periodic reports since the period ended September 30, 1997.

It appears to the Securities and Exchange Commission that there is a lack of current and accurate information concerning the securities of Digital Communications Technology Corp. because it has not filed any periodic reports since the period ended March 31, 1998.

It appears to the Securities and Exchange Commission that there is a lack of current and accurate information concerning the securities of Global Intellicom, Inc. because it has not filed any periodic reports since the period ended September 30, 1998.

It appears to the Securities and Exchange Commission that there is a lack of current and accurate information concerning the securities of Horn Silver Mines, Inc. because it has not filed any periodic reports since the period ended June 30, 1998.

It appears to the Securities and Exchange Commission that there is a lack of current and accurate information concerning the securities of TCC Industries, Inc. because it has not filed any periodic reports since the period ended September 30, 1998.

It appears to the Securities and Exchange Commission that there is a lack of current and accurate information concerning the securities of Tenney Engineering, Inc. because it has not filed any periodic reports since the period ended June 30, 1998.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 2, 2009, through 11:59 p.m. EDT on April 16, 2009.

By the Commission.
Jill M. Peterson,
Assistant Secretary.

[FR Doc. E9-7816 Filed 4-2-09; 4:15 pm]

BILLING CODE